DEPARTMENT OF HEALTH AND HUMAN SERVICES

Food and Drug Administration

[Docket No. FDA-2010-N-0506]

Office of the Commissioner; Request for Comments on the Food and Drug Administration Fiscal Year 2011-2015 Strategic Priorities Document; Request for Comments

AGENCY: Food and Drug Administration, HHS.

ACTION: Notice; request for comments.

SUMMARY: The Food and Drug Administration (FDA) is seeking public comment on its draft Strategic Priorities FY 2011-2015. FDA has identified these strategic priorities and goals that will guide its efforts to achieve its public health mission. FDA is seeking public comment to help further refine these priorities and goals.

DATES: Submit either electronic or written comments by November 1, 2010.

ADDRESSES: Submit electronic comments to http://www.regulations.gov. Submit written comments to the Division of Dockets Management (HFA-305), Food and Drug Administration, 5630 Fishers Lane, rm. 1061, Rockville, MD 20852.

FOR FURTHER INFORMATION CONTACT: Darian Tarver, Office of Planning, Food and Drug Administration, 10903 New Hampshire Ave., Bldg. 32, rm. 4219, Silver Spring, MD 20993-0002, 301-796-4850.

SUPPLEMENTARY INFORMATION:

I. Background

FDA is posting its draft Strategic Priorities FY 2011-2015 to ensure that key stakeholders are given an opportunity to comment on this document.

The purpose of this document is to outline FDA's strategic intentions and plans for the next 5 years (fiscal year (FY) 2011 through 2015). This document identifies four key cross-cutting strategic priorities and four strategic program goals that will guide efforts to achieve FDA's public health mission and to fulfill its role in supporting the larger mission and strategic goals of the Department of Health and Human Services. The four cross-cutting strategic priorities are: (1) Advance Regulatory Science and Innovation, (2) Strengthen the Safety and Integrity of the Global Supply Chain, (3) Strengthen Compliance and Enforcement Activities to Support Public Health, and (4) Expand Efforts to Meet the Needs of Special Populations. The four strategic program goals are: (1) Advance Food Safety and Nutrition, (2) Promote Public Health by Advancing the Safety and Effectiveness of Medical Products, (3) Establish an Effective Tobacco Regulation, Prevention, and Control Program, and (4) Manage for Organizational Excellence and Accountability.

The strategic planning process is an opportunity for FDA to further refine and strengthen the strategic management structure currently in place. For comparison purposes, the current FDA Strategic Action Plan 2007 can be viewed at http://www.fda.gov/downloads/AboutFDA/ReportsManualsForms/Reports/StrategicActionPlan/UCM061415.pdf.

FDA has made significant progress in its strategic planning efforts. As we build on this progress we look forward to receiving your comments by (see DATES). The text of the draft strategic priorities document is available in a “pdf” (portable document format) downloadable format through FDA's Web site: http://www.fda.gov/AboutFDA/.

II. Comments

Interested persons may submit to the Division of Dockets Management (see ADDRESSES) either electronic or written comments regarding this document. It is only necessary to send one set of comments. It is no longer necessary to send two copies of mailed comments. Identify comments with the docket number found in brackets in the heading of this document. Received comments may be seen in the Division of Dockets Management between 9 a.m. and 4 p.m., Monday through Friday.

Dated: September 27, 2010.
Leslie Kux,
Acting Assistant Commissioner for Policy.

[FR Doc. 2010-24603 Filed 9-30-10; 8:45 am]

BILLING CODE 4160-01-S